DEPARTMENT OF THE INTERIOR

National Park Service

[NPS-WASO-NAGPRA-NPS0034369; PPWOCRADN0-PCU00RP14.R50000]

Notice of Inventory Completion: Valentine Museum, Richmond, VA

AGENCY: National Park Service, Interior.

ACTION: Notice.

SUMMARY: In accordance with the Native American Graves Protection and Repatriation Act (NAGPRA), the Valentine Museum has completed an inventory of human remains and has determined that there is no cultural affiliation between the human remains and any Indian Tribe. The human remains were likely removed from unknown locations in Virginia and/or North Carolina.

DATES: Disposition of the human remains and associated funerary objects in this notice may occur on or after September 19, 2022.

ADDRESSES: Alicia Starliper, Collection Project Manager/Registrar, The Valentine Museum, 1015 E Clay Street, Richmond, VA 23219, telephone (804) 649-0711 Ext. 329, email astarliper@thevalentine.org.

SUPPLEMENTARY INFORMATION: This notice is published as part of the National Park Service's administrative responsibilities under NAGPRA. The determinations in this notice are the sole responsibility of the Valentine Museum. The National Park Service is not responsible for the determinations in this notice. Additional information on the determinations in this notice, including the results of consultation, can be found in the inventory or related records held by the Valentine Museum.

Description

Human remains representing, at minimum, three individuals were removed from unknown locations reasonably believed to be in Virginia. One individual, whose sex and age are indeterminate, is represented by four teeth, one distal phalanx, and one unidentified bone. A second individual, whose sex and age are indeterminate, is represented by a cranial fragment. The third individual is a male, 21-30 years old. No known individuals were identified. No associated funerary objects are present.

As part of his interest in prehistoric culture, museum founder Mann S. Valentine II (1824-1892), together with his sons Benjamin B. Valentine (1862-1919) and Edward P. Valentine (1864-1908), initiated multiple amateur excavations of Native American burial sites predominantly located in Virginia and North Carolina. The Valentine family disturbed these burial sites and removed ancestral human remains and funerary objects to add to their private collection, which became the foundation of the Valentine Museum.

Aboriginal Land

The human remains and associated funerary objects in this notice were removed from known geographic locations. These locations are the aboriginal lands of one or more Indian Tribes. The following information was used to identify the aboriginal land: Executive Order.

Determinations

Pursuant to NAGPRA and its implementing regulations, and after consultation with the appropriate Indian Tribes, the Valentine Museum has determined that:

• The human remains described in this notice represent the physical remains of three individuals of Native American ancestry.

• No relationship of shared group identity can be reasonably traced between the human remains and any Indian Tribe.

• The human remains described in this notice were removed from the aboriginal lands of the Catawba Indian Nation (previously listed as Catawba Tribe of South Carolina); Cherokee Nation; Chickahominy Indian Tribe; Chickahominy Indian Tribe—Eastern Division; Delaware Nation, Oklahoma; Delaware Tribe of Indians; Eastern Band of Cherokee Indians; Monacan Indian Nation; Nansemond Indian Nation (previously listed as Nansemond Indian Tribe); Pamunkey Indian Tribe; Rappahannock Tribe, Inc.; The Muscogee (Creek) Nation; Tuscarora Nation; and the Upper Mattaponi Indian Tribe.

Requests for Disposition

Written requests for disposition of the human remains and associated funerary objects in this notice must be sent to the Responsible Official identified in ADDRESSES. Requests for disposition may be submitted by:

1. Any one or more of the Indian Tribes identified in this notice and, if joined to a request from one or more of the Indian Tribes, any one or more of the following non-federally recognized Indian groups: the Cheroenhaka (Nottoway) Indian Tribe; Mattaponi Indian Tribe; Nottoway Indian Tribe of Virginia; and the Patawomeck Indian Tribe of Virginia.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after September 19, 2022. If competing requests for disposition are received, the Valentine Museum must determine the most appropriate requestor prior to disposition. Requests for joint disposition of the human remains and associated funerary objects are considered a single request and not competing requests. The Valentine Museum is responsible for sending a copy of this notice to the Indian Tribes identified in this notice.

Authority: Native American Graves Protection and Repatriation Act, 25 U.S.C. 3003, and the implementing regulations, 43 CFR 10.9 and § 10.11.

Dated: August 10, 2022.
Melanie O'Brien,
Manager, National NAGPRA Program.

[FR Doc. 2022-17767 Filed 8-17-22; 8:45 am]

BILLING CODE 4312-52-P